DEPARTMENT OF COMMERCE

National Oceanic and Atmospheric Administration

RIN 0648-XG375

Permanent Advisory Committee to Advise the U.S. Commissioners To the Western and Central Pacific Fisheries Commission; Meeting Announcement

AGENCY: National Marine Fisheries Service (NMFS), National Oceanic and Atmospheric Administration (NOAA), Commerce.

ACTION: Notice of public meeting.

SUMMARY: NMFS announces a meeting of the Permanent Advisory Committee (PAC) to advise the U.S. Commissioners to the Western and Central Pacific Fisheries Commission (WCPFC) on October 11-12, 2018. Meeting topics are provided under the SUPPLEMENTARY INFORMATION section of this notice.

DATES: The meeting of the PAC will be held on October 11, 2018, from 8 a.m. to 4 p.m. HST (or until business is concluded) and October 12, 2018, from 8 a.m. to 4 p.m. HST (or until business is concluded).

ADDRESSES: The meeting will be held at the Ala Moana Hotel, 410 Atkinson Drive, Honolulu, Hawaii, 96815—in the Garden Lanai Meeting Room. Documents to be considered by the PAC will be made available at the meeting.

FOR FURTHER INFORMATION CONTACT: Emily Crigler, NMFS Pacific Islands Regional Office; telephone: 808-725-5036; facsimile: 808-725-5215; email: emily.crigler@noaa.gov.

SUPPLEMENTARY INFORMATION: In accordance with the Western and Central Pacific Fisheries Convention Implementation Act (16 U.S.C. 6901 et seq.), a Permanent Advisory Committee, or PAC, has been convened to advise the U.S. Commissioners to the WCPFC, certain members of which have been appointed by the Secretary of Commerce in consultation with the U.S. Commissioners to the WCPFC. The PAC supports the work of the U.S. National Section to the WCPFC in an advisory capacity. The U.S. National Section is made up of the U.S. Commissioners and the Department of State. NMFS Pacific Islands Regional Office provides administrative and technical support to the PAC in cooperation with the Department of State. The WCPFC was established under the Convention on the Conservation and Management of Highly Migratory Fish Stocks in the Western and Central Pacific Ocean. The next regular annual session of the WCPFC (WCPFC 15) is scheduled for December 10-December 14, 2018, in Honolulu, HI. More information on this meeting and the WCPFC can be found on the WCPFC website: http://wcpfc.int/.

Meeting Topics

The PAC meeting topics may include the following: (1) Outcomes of the 2017 Annual Meeting and 2018 sessions of the WCPFC Scientific Committee, Northern Committee, and Technical and Compliance Committee; (2) conservation and management measures for bigeye tuna, yellowfin tuna, skipjack tuna and other species for 2018 and beyond; (3) potential U.S. proposals to WCPFC15 (4) input and advice from the PAC on issues that may arise at WCPFC15; (5) potential proposals from other WCPFC members; and (6) other issues.

Special Accommodations

The meeting location is physically accessible to people with disabilities. Requests for sign language interpretation or other auxiliary aids should be directed to Emily Crigler at (808) 725-5036 by September 11, 2018.

Authority: 16 U.S.C. 6902.

Dated: August 20, 2018.
Margo B. Schulze-Haugen,
Acting Director, Office of Sustainable Fisheries, National Marine Fisheries Service.

[FR Doc. 2018-18224 Filed 8-22-18; 8:45 am]

BILLING CODE 3510-22-P